DEPARTMENT OF COMMERCE

National Oceanic and Atmospheric Administration

[I.D. 060203A]

Endangered Species; File No. 1438

AGENCY: National Marine Fisheries Service (NMFS), National Oceanic and Atmospheric Administration (NOAA), Commerce.

ACTION: Receipt of application.

SUMMARY: Notice is hereby given that Dr. Thane Wibbels, Department of Biology, University of Alabama at Birmingham, Birmingham, AL 35294-1170, has applied in due form for a permit to take Kemp's ridley (Lepidochelys kempii), loggerhead (Caretta caretta), and green (Chelonia mydas) sea turtles for purposes of scientific research.

DATES: Written or telefaxed comments must be received on or before July 16, 2003.

ADDRESSES: The application and related documents are available for review upon written request or by appointment in the following offices:

Permits, Conservation and Education Division, Office of Protected Resources, NMFS, 1315 East-West Highway, Room 13705, Silver Spring, MD 20910; phone (301) 713-2289; fax (301) 713-0376; and

Southeast Region, NMFS, 9721 Executive Center Drive North, St. Petersburg, FL 33702-2432; phone (727) 570-5301; fax (727) 570-5320.

FOR FURTHER INFORMATION CONTACT: Patrick Opay, (301) 713-1401 or Carrie Hubard, (301) 713-2289.

SUPPLEMENTARY INFORMATION: The subject permit is requested under the authority of the Endangered Species Act of 1973, as amended (ESA; 16 U.S.C. 1531 et seq.) and the regulations governing the taking, importing, and exporting of endangered and threatened species (50 CFR 222-226).

The applicant proposes to utilize tangle net methodology combined with observational surveys from boats to study sea turtles in the estuarine systems of Alabama state waters from Grand Bay to Perdido Bay. The purpose of the research is to provide a basic understanding of the abundance, location, and movement of sea turtles within these estuarine ecosystems. This research will help resource managers develop optimal management strategies for these estuaries in order to conserve and protect sea turtles and their habitat. The applicant proposes to take 30 Kemp's ridley, 30 loggerhead, and 30 green sea turtles annually. Turtles would be captured with a 9.9 inch (25 cm) mesh tangle net that is 731.7 feet (223 m) long by 19.7 feet (6 m) deep. Turtles would be measured, weighed, flipper tagged, blood sampled and released. A subset of five loggerhead and five Kemp's ridley sea turtles would be tagged with a sonic or satellite transmitter. The requested duration of this permit is 5 years.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301) 713-0376, provided the facsimile is confirmed by hard copy submitted by mail and postmarked no later than the closing date of the comment period. Please note that comments will not be accepted by e-mail or by other electronic media.

Dated: June 10, 2003.
Stephen L. Leathery,
Chief, Permits, Conservation and Education Division, Office of Protected Resources, National Marine Fisheries Service.

[FR Doc. 03-15154 Filed 6-13-03; 8:45 am]

BILLING CODE 3510-22-S